DEPARTMENT OF AGRICULTURE

Food Safety and Inspection Service

[Docket No. FSIS-2021-0019]

National Advisory Committee on Meat and Poultry Inspection

AGENCY: Food Safety and Inspection Service, USDA.

ACTION: Notification of public meeting.

SUMMARY: Pursuant to the provisions of the rules and regulations of the Department of Agriculture and the Federal Advisory Committee Act (FACA), the Food Safety and Inspection Service (FSIS) is announcing a virtual meeting of the National Advisory Committee on Meat and Poultry Inspection (NACMPI). The purpose of the Committee is to provide advice to the Secretary of Agriculture concerning State and Federal programs with respect to meat, poultry and processed egg products inspection, food safety, and other matters that fall within the scope of the Federal Meat Inspection Act (FMIA), and the Poultry Products Inspection Act (PPIA). The committee will convene virtually on September 27 and 28, 2021, in a public meeting where FSIS will present two sets of charges to the Committee: (1) To consider how FSIS should clarify the Agency's positions on the custom and retail exemptions to ensure that meat, poultry, and egg products produced under the exemptions are safe, wholesome, and correctly labeled and packaged and (2) to consider actions FSIS should take to prevent and reduce illnesses associated with the handling or consumption of frozen, raw, stuffed not ready-to-eat (NRTE) poultry products, which may be breaded and par-fried and may appear ready-to-eat (RTE) to consumers.

DATES: The virtual public meeting is scheduled for September 27 and 28, 2021. NACMPI will meet from 1:00 p.m. to 3:00 p.m. EST on September 23, 2021 for administrative purposes. This portion of the meeting is not open to the public. The public meeting is from 10 a.m. to 5 p.m. EST on September 27 and September 28, 2021.

ADDRESSES: The meeting is virtual and will be viewable via a link provided by email when you register for the meeting. Attendees should pre-register for the meeting. See the pre-registration instructions under “Registration and Meeting Materials.”

Public Comments: FSIS invites interested persons to submit comments on this meeting by September 24, 2021. Comments may be submitted by any of the following methods:

• Federal eRulemaking Portal: This website provides the ability to type short comments directly into the comment field on this web page or attach a file for lengthier comments. Go to https://www.regulations.gov. Follow the on-line instructions at that site for submitting comments.

• Mail: Send to Docket Clerk, U.S. Department of Agriculture, Food Safety and Inspection Service, 1400 Independence Avenue SW, Mailstop 3758, Washington, DC 20250-3700.

• Hand- or Courier-Delivered Submittals: Deliver to 1400 Independence Avenue SW, Jamie L. Whitten Building, Room 350-E, Washington, DC 20250-3700.

Instructions: All items submitted by mail or electronic mail must include the Agency name and docket number FSIS-2021-0019. Comments received in response to this docket will be made available for public inspection and posted without change, including any personal information, to https://www.regulations.gov.

Docket: For access to background documents or comments received, call (202) 205-0495 to schedule a time to visit the FSIS Docket Room at 1400 Independence Avenue SW, Washington, DC 20250-3700.

FOR FURTHER INFORMATION CONTACT: Valeria Green, Director, Resource and Administrative Management Staff, Office of Policy and Program Development, Telephone: (301) 504-0846 Email: valeria.green@usda.gov, regarding specific questions about the Committee or this meeting. General information about the Committee can also be found at: https://www.fsis.usda.gov/nacmpi. For the hearing impaired, contact the Federal Information Relay Service: https://www.federalrelay.us/ or 800-877-0996 (Voice, TTY, ASCII or Spanish).

SUPPLEMENTARY INFORMATION:

Background

The NACMPI was established in 1971 and is authorized under section 301(a)(4) of the Federal Meat Inspection Act (FMIA) (21 U.S.C. 661(a)(4)) to carry out the responsibilities imposed by sections 7(c), 24, 205, 301(a)(3), and 301(c) of the FMIA (21 U.S.C. 607(c), 624, 645, 661(a)(3), and 661(c)), and authorized under section 5(s)(4) of the Poultry Products Inspection Act (PPIA) (21 U.S.C. 454(a)(4) to carry out the responsibilities imposed by sections 5(a)(3), 5(c), 8(b), and 11(e) of the PPIA (21 U.S.C. 454(a)(3), 454(c), 457(b), and 460(e)). The purpose of the Committee is to provide advice to the Secretary concerning meat and poultry inspection; food safety; and other matters that fall within the scope of the FMIA and PPIA. The current charter and other information about NACMPI can be found at https://www.fsis.usda.gov/policy/advisory-committees/national-advisory-committee-meat-and-poultry-inspection-nacmpi. Membership of NACMPI is drawn from representatives of consumer groups; producers; processors; and representatives from the meat, poultry, and egg products industries; State and local government officials; and academia.

On September 27 and 28, 2021, NACMPI will review and discuss the following two topics. First, FSIS is seeking recommendations to clarify the Agency's positions on the custom and retail exemptions to ensure that meat, poultry, and egg products produced under the exemptions are safe, wholesome, and correctly labeled and packaged. The FMIA and the PPIA prohibit the slaughter of livestock or poultry or preparation of meat or poultry products for commerce without inspection, if such products are intended for use as human food, with specific exemptions. One such exemption, is the custom exemption at 21 U.S.C. 623(a) and 464(c)(1)(B), which allows facilities to operate without Federal inspection if they slaughter and process livestock for the exclusive private use of the owner of the livestock, members of the owner's household, or the owner's nonpaying guests or employees. Custom operators must return all product derived from exempt animals to the original owner. Another exemption is the retail exemption at 21 U.S.C. 661(c)(2) and 464(a), which exempts from routine Federal inspection operations of types traditionally and usually conducted at retail stores, restaurants, and restaurant central kitchen facilities. FSIS is seeking recommendations to clarify the Agency's positions on the custom and retail exemptions to ensure that meat, poultry, and egg products produced under the exemptions are safe, wholesome, and correctly labeled and packaged.

FSIS will ask the committee to consider the following:

Custom Exemption

1. Should FSIS conduct rulemaking to set a numerical limit on the number of individuals allowed to co-own an animal presented for slaughter/processing under the custom exemption provision (e.g., limiting to four the number of individuals allowed to co-own a market hog presented for slaughter)? If so, what factors should the Agency consider, if any, to determine the limits for different amenable species?

2. Should FSIS conduct rulemaking to clarify that collectively-owned membership organizations or other firms (e.g., a group of individuals residing across disparate locations organized into a “livestock ownership co-op” via an online platform) cannot “own” animals for purposes of the custom exemption?

3. Should FSIS conduct rulemaking to clarify that custom operators should maintain records that demonstrate an exact correspondence between the individuals owning a particular animal prior to slaughter and the individuals receiving any part of the products derived from that animal?

Retail Exemption

1. Should 3rd parties (e.g., independent contractors or delivery services) be permitted to prepare meat and poultry received from restaurant and retail operations for delivery to consumers without Federal inspection being required for the retail or restaurant operation? And if so, what types of preparation should be allowed? Examples of preparation might include warming up, defrosting, assembly of meals, cutting, or packing.

2. Should such 3rd party arrangements be allowed only in institutional settings (e.g., school cafeterias, hospitals, nursing homes, or prisons)?

3. Should FSIS conduct rulemaking to clarify what types of preparation are allowed, and in what settings, when 3rd parties are permitted to prepare meat and poultry received from retail and restaurant operations for delivery to consumers without Federal inspection?

Second, FSIS will ask NACMPI what actions should be taken to prevent and reduce illnesses associated with the handling or consumption of frozen, raw, stuffed NRTE poultry products, which may be breaded and par-fried and may appear RTE to consumers. Between FY 2010 and FY 2019 FSIS investigated 51 outbreaks associated with NRTE poultry. Among those, eight outbreaks may have been associated with products that appear RTE to the consumer. These frozen, raw, stuffed NRTE chicken products, which may be breaded and par-fried and may appear RTE to consumers, had labeling identifying that the product was raw and included cooking instructions for preparation. Additionally, in June 2021, there is an open multistate Salmonella Enteritidis illness outbreak possibly associated with frozen, raw, breaded stuffed chicken products with 27 cases from eight states.

FSIS will ask the committee to consider the following:

1. Given FSIS' consumer research findings ¹ and an open multistate Salmonella Enteritidis illness outbreak, should FSIS re-verify that companies continue to voluntarily label these products as raw in several places on the label and include validated cooking instructions?

¹ https://www.fsis.usda.gov/sites/default/files/media_file/2021-04/fscrp-yr3-nrte-final-report.pdf.

2. What, if any, actions can FSIS take to prevent and reduce illnesses associated with the handling or consumption of these NRTE products? For example, should FSIS:

a. Conduct exploratory sampling for pathogens and/or indicator organisms in these and other similar raw, stuffed or non-stuffed partially processed products?

b. Require establishments to apply a lethality treatment to ensure that all products are RTE?

c. Sample these products for Salmonella because consumers customarily undercook them?

d. Require establishments that produce these products to reassess their HACCP plans, in light of outbreak data?

e. Conduct targeted consumer outreach? If so, please provide some ideas on the best approaches.

FSIS will present the two issues described above to the full Committee. The Committee will then divide into two subcommittees to discuss the issues. Each subcommittee will provide a report of their comments and recommendations to the full Committee before the meeting concludes on Thursday, September 28, 2021. An agenda will be published online before the public meeting. FSIS will finalize the agenda on or before the meeting dates and post it on the FSIS website at: https://www.fsis.usda.gov/news-events/events-meetings.

Registration and Meeting Materials

There is no fee to register for the public meeting, but pre-registration is mandatory for participants attending. All attendees must register online at https://www.fsis.usda.gov/news-events/events-meetings.

Public Comments and Participation in Meetings

Stakeholders will have an opportunity to provide oral comments during the public meeting. Stakeholders must notify FSIS during registration of their wish to speak at the meeting. Stakeholders who do not notify FSIS during registration of their wish to speak will not have the opportunity to comment on the day of the public meeting. Due to the anticipated high level of interest in the opportunity to make public comments and the limited time available to do so, FSIS will do its best to accommodate all persons who registered and requested to provide oral comments and will limit all speakers to three minutes. FSIS encourages persons and groups who have similar interests to consolidate their information for presentation by a single representative.

Transcripts

As soon as the meeting transcripts are available, they will be accessible on the FSIS website at: https://www.fsis.usda.gov/policy/advisory-committees/national-advisory-committee-meat-and-poultry-inspection-nacmpi. The transcripts may also be viewed at the FSIS Docket Room at the address listed above.

Additional Public Notification

Public awareness of all segments of rulemaking and policy development is important. Consequently, FSIS will announce this Federal Register publication on-line through the FSIS web page located at: https://www.fsis.usda.gov/federal-register.

FSIS will also announce and provide a link to this Federal Register publication through the FSIS Constituent Update, which is used to provide information regarding FSIS policies, procedures, regulations, Federal Register notices, FSIS public meetings, and other types of information that could affect or would be of interest to our constituents and stakeholders. The Constituent Update is available on the FSIS web page. Through the web page, FSIS can provide information to a much broader, more diverse audience. In addition, FSIS offers an email subscription service which provides automatic and customized access to selected food safety news and information. This service is available at: https://www.fsis.usda.gov/subscribe. Options range from recalls to export information, regulations, directives, and notices. Customers can add or delete subscriptions themselves and have the option to password protect their accounts.

USDA Non-Discrimination Statement

In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at https://www.usda.gov/oascr/how-to-file-a-program-discrimination-complaint and at any USDA office or write a letter addressed to USDA and provide in the letter all of the information requested in the form. To request a copy of the complaint form, call (866) 632-9992. Submit your completed form or letter to USDA by: (1) Mail: U.S. Department of Agriculture, Office of the Assistant Secretary for Civil Rights, 1400 Independence Avenue SW, Washington, DC 20250-9410; (2) fax: (202) 690-7442; or (3) email: program.intake@usda.gov. USDA is an equal opportunity provider, employer, and lender.

Dated: August 24, 2021.
Cikena Reid,
Committee Management Officer.

[FR Doc. 2021-18523 Filed 8-26-21; 8:45 am]

BILLING CODE 3410-DM-P